DEPARTMENT OF STATE

Office of the Deputy Secretary

[Public Notice—4404]

Removal of the Restriction on the Use of United States Passports for Travel To, In, or Through Iraq

The Deputy Secretary of State has decided to revoke the restriction on the use of U.S. passports for travel to, in, or through Iraq set forth in Public Notice 4283 of February 25, 2003 (68 FR 8791), as amended by Public Notice 4337 of April 16, 2003 (68 FR 18722), as further amended by Public Notice 4366 of May 15, 2003 (68 FR 26371). Effective upon signature of this Public Notice, United States passports are valid for travel to, in or through Iraq.

Conditions in Iraq remain hazardous for U.S. travelers. Persons considering travel to Iraq should consult the travel warnings available on the State Department's Bureau of Consular Affairs Web site, http://travel.state.gov prior to finalizing travel plans.

The Public Notice is effective upon signature.

Dated: July 14, 2003.
Richard Armitage,
Deputy Secretary of State, Department of State.

[FR Doc. 03-18466 Filed 7-18-03; 8:45 am]

BILLING CODE 4710-10-P